DEPARTMENT OF COMMERCE

Foreign-Trade Zones Board

[Docket 2-2002]

Foreign-Trade Zone 143—Sacramento, California, Area Application for Expansion

An application has been submitted to the Foreign-Trade Zones (FTZ) Board (the Board), by the Sacramento-Yolo Port District, grantee of Foreign-Trade Zone 143, requesting authority to expand its zone to include an additional site in the Sacramento, California, area, adjacent to the San Francisco Customs port of entry. The application was submitted pursuant to the provisions of the Foreign-Trade Zones Act, as amended (19 U.S.C. 81a-81u), and the regulations of the Board (15 CFR part 400). It was formally filed on January 7, 2002.

FTZ 143 was approved on August 6, 1987 (Board Order 360, 52 FR 30698, 8/17/87) and expanded on December 15, 1997 (Board Order 944, 62 FR 67043, 12/23/97) and January 18, 2000 (Board Order 1074, 65 FR 5495, 2/4/00). The general-purpose zone project currently consists of the following sites: Site 1 (686 acres)—within the Port of Sacramento, Industrial Blvd. and Boatman Ave., W. Sacramento; Site 2 (1,280 acres)—Lincoln Airport Business Park, Aviation Blvd, Lincoln, some 25 miles northeast of Sacramento; and, Site 3 (1,574 acres)—Chico Municipal Airport complex and adjacent industrial development area, Chico.

The applicant is now requesting authority to expand the general-purpose zone to include an additional site (Proposed Site 4) in Sacramento County. Proposed Site 4 (976 acres)—McClellan Park (the former site of the McClellan Air Force Base), 3140 Peacekeeper Way, McClellan, California. The site is located in an unincorporated area of the County of Sacramento. The County of Sacramento selected McClellan Business Park, LLC to redevelop and manage the former 2,856-acre McClellan Air Force Base. The area to be included in the proposed zone is currently owned by the U.S. Air Force, but ownership is in the process of being conveyed to the County of Sacramento and McClellan Business Park LLC. (The property is currently leased to the County of Sacramento and McClellan Business Park, LLC as part of the conveyance process.) A variety of businesses are already established on the site performing activities including services, manufacturing and processing, and warehousing and distribution. No specific manufacturing requests are being made at this time. Such requests would be made to the Board on a case-by-case basis. The site contains certain historic properties which will be managed in accordance with the agreement between the United States Air Force and the California State Historic Preservation Officer.

In accordance with the Board's regulations, a member of the FTZ Staff has been designated examiner to investigate the application and report to the Board.

Public comment on the application is invited from interested parties. Submissions (original and 3 copies) shall be addressed to the Board's Executive Secretary at one of the addresses:

1. Submissions via Express/Package Delivery Services: Foreign-Trade Zones Board, U.S. Department of Commerce, Franklin Court Building-Suite 4100W, 1099—14th Street NW., Washington, DC 20005; or

2. Submissions via the U.S. Postal Service: Foreign-Trade Zones Board, U.S. Department of Commerce, FCB—Suite 4100W, 1401 Constitution Avenue NW, Washington, DC 20230.

The closing period for their receipt is March 18, 2002. Rebuttal comments in response to material submitted during the foregoing period may be submitted during the subsequent 15-day period (to April 1, 2002).

A copy of the application and accompanying exhibits will be available for public inspection at the Office of the Foreign-Trade Zones Board's Executive Secretary at the first address listed above, and at the Office of the Port Director, Sacramento-Yolo Port District, 3251 Beacon Boulevard, Suite 210, W. Sacramento, CA 95798.

Dated: January 7, 2002.
Dennis Puccinelli,
Executive Secretary.

[FR Doc. 02-974 Filed 1-14-02; 8:45 am]

BILLING CODE 3510-DS-P